DEPARTMENT OF HOUSING AND URBAN DEVELOPMENT

[Docket No. FR-4903-N-51]

Notice of Submission of Proposed Information Collection to OMB; Neighborhood Networks Management and Tracking Data Collection

AGENCY: Office of the Chief Information Officer.

ACTION: Notice.

SUMMARY: The proposed information collection requirement described below has been submitted to the Office of Management and Budget (OMB) for review, as required by the Paperwork Reduction Act. The Department is soliciting public comments on the subject proposal.

DATES: Comments Due Date: August 23, 2004.

ADDRESSES: Interested persons are invited to submit comments regarding this proposal. Comments should refer to the proposal by name and/or OMB approval Number (2502-0553) and should be sent to: HUD Desk Officer, Office of Management and Budget, New Executive Office Building, Washington, DC 20503; fax: (202) 395-6974.

FOR FURTHER INFORMATION CONTACT: Wayne Eddins, Reports Management Officer, AYO, Department of Housing and Urban Development, 451 Seventh Street, SW., Washington, DC 20410; e-mail Wayne_Eddins@HUD.gov; telephone (202) 708-2374. This is not a toll-free number. Copies of available documents submitted to OMB may be obtained from Mr. Eddins.

SUPPLEMENTARY INFORMATION: This Notice informs the public that the U.S. Department of Housing and Urban Development (HUD) has submitted to OMB, for emergency processing, a survey instrument to obtain information from faith based and community organizations on their likelihood and success at applying for various funding programs. This Notice is soliciting comments from members of the public and affecting agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submission of responses.

This Notice also lists the following information:

Title of Proposal: Neighborhood Networks Management and Tracking Data Collection.

OMB Approval Number: 2502-0553.

Description of the Need for the Information and Its Proposed Use: Neighborhood Networks is a community-based initiative that encourages the development of resource and community technology centers in HUD insured and assisted housing. In 2003, HUD conducted a national survey of Neighborhood Networks center directors to document center characteristics and identify commonalities and trends to guide the direction of the Neighborhood Networks initiative.

HUD is requesting clearance for a more comprehensive data collection instrument in 2004. The data collection is designed with the objective of merging information currently captured in a paper business plan with data currently collected through the survey of center directors. This approach will be a multi-step iterative process as the business plan is evolving from a paper submission to an enhanced and more comprehensive online tool known as START—the Strategic Tracking and Reporting Tool. Once the transition is complete, START will be the mechanism by which all center data are collected.

Frequency of Submission: Annually.

| Number of respondents | Annual responses | × | House per response | = | Burden hours
Reporting Burden | 840 | 1 |  | 1.17 |  | 980

Total Estimated Burden Hours: 980.

Status: Reinstatement with Revision.

Authority: Section 3507 of the Paperwork Reduction Act of 1995, 44 U.S.C. 35, as amended.

Dated: July 16, 2004.
Wayne Eddins,
Departmental Reports Management Officer, Office of the Chief Information Officer.

[FR Doc. 04-16857 Filed 7-22-04; 8:45 am]

BILLING CODE 4210-72-P